DEPARTMENT OF AGRICULTURE

Submission for OMB Review; Comment Request

April 16, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if they are received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: FNS Generic Clearance for Pre-Testing, Pilot, and Field Testing Studies.

OMB Control Number: 0584-NEW.

Summary of Collection: The Food and Nutrition Service (FNS) is requesting approval from the Office of Management and Budget (OMB) to conduct pre-testing of surveys using a generic clearance that will allow FNS to conduct a variety of data-gathering activities aimed at improving the quality and usability of information collection instruments associated with research and analysis activities. The procedures utilized to this effect include but are not limited to experiments with levels of incentives for study participants, tests of various types of survey operations, focus groups, pilot testing, exploratory interviews, experiments with questionnaire design, and usability testing of electronic data collection instruments. The authorizing statutes for data collections submitted under this generic clearance are: The Healthy, Hunger-Free Kids Act of 2010 (Pub. L. 111-296, Sec 305), and Section 17 (7 U.S.C. 2026) (a)(1) of the Food and Nutrition Act of 2008.

Need and Use of the Information: The information collected will be used to pre-test, evaluate and improve the quality of surveys instruments and provide reassessments before they are conducted. This generic testing clearance is a helpful vehicle for evaluating questionnaires/assessments and various data collection procedures. It will allow FNS to take advantage of a variety of methods to identify questionnaire/assessment and procedural problems, suggest solutions, and measure the relative effectiveness of alternative solutions. The quality and timeliness of data collections will be improved by conducting pre-testing in advance of full surveys.

Description of Respondents: Individual or households; Business or other for-profit; Not-for-profit institutions; State, Local or Tribal Government.

Number of Respondents: 1,500.

Frequency of Responses: Reporting: On occasion.

Total Burden Hours: 1,500.

Ruth Brown,
Departmental Information Collection Clearance Officer.

[FR Doc. 2015-09286 Filed 4-21-15; 8:45 am]

BILLING CODE 3410-30-P